DEPARTMENT OF LABOR

Employment and Training Administration

[TA-W-52,926]

Standard Mercerizing & Specialty Yarn, LLC, Formerly Known as Standard Coosa Industries, Inc., Chattanooga, TN; Notice of Termination of Investigation

Pursuant to section 221 of the Trade Act of 1974, as amended, an investigation was initiated on September 23, 2003, in response to a worker petition filed by a UNITE!, Tennessee-Kentucky District, Local 1418, on behalf of workers at Standard Mercerizing and Specialty Yarns, LLC, Chattanooga, Tennessee. The facility closed in June of 2003.

The Department issued a negative determination applicable to the petitioning group of workers on August 26, 2003 (TA-W-51,939). No new information or change in circumstances is evident which would result in a reversal of the Department's previous determination. Consequently, further investigation would serve no purpose, and the investigation has been terminated.

Signed at Washington, DC, this 29th day of September, 2003.
Richard Church,
Certifying Officer, Division of Trade Adjustment Assistance.

[FR Doc. 03-27436 Filed 10-30-03; 8:45 am]

BILLING CODE 4510-30-P